DEPARTMENT OF AGRICULTURE

Rural Business-Cooperative Service

7 CFR Part 4280

Notice of a Public Meeting on the Rural Energy for America Program

AGENCY: Rural Business-Cooperative Service, USDA.

ACTION: Notice of public meeting.

SUMMARY: The Rural Business-Cooperative Service (RBS) will hold two informational Webinars for the Rural Energy for America Program (REAP) associated with the recently published REAP interim rule and Notice of Funds Availability (NOFA). Participation will be limited for each Webinar to the first two hundred registrants.

DATES: The Webinars will be held on Friday, April 29, 2011, and on Monday, May 2, 2011, from 2 p.m. to 4 p.m. EDT both days. You must register, as described in the ADDRESSES section, by noon EDT April 27, 2011, for the April 29, 2011, Webinar and by noon EDT April 28, 2011, for the May 2, 2011, Webinar.

ADDRESSES: To participate in one of the Webinars, you must register for one of the Webinars by sending an e-mail to: energydivision@wdc.usda.gov. You must include in the SUBJECT line the date of the Webinar for which you wish to participate, and in the body of the e-mail, please provide the participant's name, e-mail address, mailing address, and telephone number. You must submit your e-mail by the applicable deadline listed in the DATES section of this notice.

FOR FURTHER INFORMATION CONTACT: Donnetta Rigney, Rural Business-Cooperative Service, U.S. Department of Agriculture, Stop 3225, 1400 Independence Avenue, SW., Washington, DC 20250-3221, Telephone: (202) 720-9812.

SUPPLEMENTARY INFORMATION: The REAP interim rule and the NOFA were published in the Federal Register on April 14, 2011. In order to familarize the public with the content of the REAP interim rule, representatives of the Department of Agriculture are conducting the two Webinars. The purpose of these Webinars is to provide information on the interim rule for the Rural Energy for America Program, focusing on the provisions associated with flexible fuel pumps and other significant changes being implemented through the interim rule. Participants will be afforded the opportunity to ask questions on the material included in the presentation.

Please note that formal comments on the interim rule will not be accepted during the Webinar. Instead, the public has an opportunity to comment formally on the interim rule as provided in the interim rule published in the Federal Register on April 14, 2011 (76 FR 21110).

All prospective registrants will be notified by the Agency via e-mail if they are or are not among the first two hundred registrants for one of the two Webinars.

Participants are responsible for ensuring their systems are compatible with the Webinar software.

Dated: April 18, 2011.
Judith A. Canales,
Administrator, Rural Business-Cooperative Service.

[FR Doc. 2011-9725 Filed 4-21-11; 8:45 am]

BILLING CODE 3410-XY-P